DEPARTMENT OF THE INTERIOR

Bureau of Land Management

[CO-930-1430-ET; COC-28260]

Public Land Order No. 7499; Revocation of Secretarial Order dated April 10, 1935; Colorado

AGENCY: Bureau of Land Management, Interior.

ACTION: Public land order.

SUMMARY: This order revokes a Secretarial Order in its entirety as it affects the remaining 80.57 acres of public land withdrawn for the San Luis Drainage Reclamation Project. The land is no longer needed for reclamation purposes. The land has been and will remain open to mineral leasing.

EFFECTIVE DATE: October 15, 2001.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by section 204 of the Federal Land Policy and Management Act of 1976, 43 U.S.C. 1714 (1994), it is ordered as follows:

1. The Secretarial Order dated April 10, 1935, which withdrew public land for the Bureau of Reclamation San Luis Drainage Project, is hereby revoked in its entirety:

New Mexico Principal Meridian

T. 42 N., R. 10 E.,

Sec. 18, lot 1 and SE¼NW¼.

The area described contains 80.57 acres in Saguache County.

2. At 9 a.m. on October 15, 2001, the land will be opened to the operation of the public land laws generally, subject to valid existing rights, the provisions of existing withdrawals, other segregations of record, and the requirements of applicable law. All valid applications received at or prior to 9 a.m. on October 15, 2001, shall be considered as simultaneously filed at that time. Those received thereafter shall be considered in the order of filing.

3. At 9 a. m. on October 15, 2001, the land will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: August 21, 2001.
J. Steven Griles,
Deputy Secretary.

[FR Doc. 01-22942 Filed 9-12-01; 8:45 am]

BILLING CODE 4310-JB-P